DEPARTMENT OF ENERGY

Federal Energy Regulatory Commission

[ Project No., P-14250-000]

KC Hydro LLC of New Hampshire; Notice of Preliminary Permit Application Accepted for Filing and Soliciting Comments, Motions To Intervene, and Competing Applications

On August 8, 2011, KC Hydro LLC of New Hampshire, filed an application for a preliminary permit, pursuant to section 4(f) of the Federal Power Act (FPA), proposing to study the feasibility of the Weare Horace Lake Dam Hydropower Project (project) to be located on the Piscataquog River, near the Town of Weare, Hillsborough County, New Hampshire. The sole purpose of a preliminary permit, if issued, is to grant the permit holder priority to file a license application during the permit term. A preliminary permit does not authorize the permit holder to perform any land-disturbing activities or otherwise enter upon lands or waters owned by others without the owners' express permission.

The proposed project would consist of: (1) The existing 340-foot-long, 34-foot-high, concrete gravity Weare Reservoir Dam equipped with a 157-foot-long ogee spillway, a 25-foot-long stoplog section with 5 sets of stoplog bays; (2) a new 100-foot-long, 36-inch-diameter steel penstock; (3) an existing 323-acre impoundment with a normal maximum pool elevation of 655.49 feet National Geodetic Vertical Datum; (4) a new powerhouse containing two submersible or tubular turbine-generators with a total installed capacity of 150 kilowatts; (5) a new 125-foot-long tailrace; (6) a new 400-foot-long, 4.16-kilovolt transmission line; and (7) appurtenant facilities. The project would have an estimated average annual energy generation of 600 megawatt-hours, which would be sold to Public Service of New Hampshire.

Applicant Contact: Ms. Kelly Sackheim, Principal, KC Hydro LLC of New Hampshire, 5096 Cocoa Palm Way, Fair Oaks, California 95628; phone: (301) 401-5978.

FERC Contact: Michael Watts; phone: (202) 502-6123.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14250-000) in the docket number field to access the document. For assistance, contact FERC Online Support.

Dated: November 10, 2011.
Kimberly D. Bose,
Secretary.

[FR Doc. 2011-29927 Filed 11-18-11; 8:45 am]

BILLING CODE 6717-01-P